DEPARTMENT OF HOMELAND SECURITY

8 CFR Chapter I

[USCIS Docket No. USCIS 2020-0013]

RIN 1615-AC57

Ratification of Department Action

AGENCY: Department of Homeland Security (DHS).

ACTION: Ratification.

SUMMARY: The Department of Homeland Security is publishing notice of the Secretary of Homeland Security's ratification of a rule.

DATES: The ratification was signed on December 15, 2025 and relates back to the original date of the action that it ratifies.

FOR FURTHER INFORMATION CONTACT: Office of the General Counsel, DHS, Washington, DC 20528, (202) 282-9822.

SUPPLEMENTARY INFORMATION: On December 15, 2025, the Secretary of Homeland Security ratified the approval and issuance of the final rule titled “Security Bars and Processing,” as well as the associated notice of proposed rulemaking. See 85 FR 41201 (July 9, 2020); 85 FR 84160 (Dec. 23, 2020). DHS is now publishing the ratification in the Federal Register out of an abundance of caution. Neither the ratification nor the publication is a statement that the ratified action would be invalid absent the ratification, whether published or otherwise.

James H. Percival II,
General Counsel, U.S. Department of Homeland Security.

Appendix

BILLING CODE 9111-97-P

[FR Doc. 2026-00964 Filed 1-16-26; 8:45 am]

BILLING CODE 9111-97-C